DEPARTMENT OF THE INTERIOR

National Park Service

[N6529; NPS-WASO-NAGPRA-NPS0041082; PPWOCRADN0-PCU00RP14.R50000]

Notice of Inventory Completion: Kansas State Historical Society, Topeka, KS

AGENCY: National Park Service, Interior.

ACTION: Notice.

SUMMARY: In accordance with the Native American Graves Protection and Repatriation Act (NAGPRA), the Kansas State Historical Society (KSHS) has completed an inventory of human remains and associated funerary objects and has determined that there is a cultural affiliation between the human remains and associated funerary objects and Indian Tribes or Native Hawaiian organizations in this notice.

DATES: Repatriation of the human remains and associated funerary objects in this notice may occur on or after October 16, 2025.

ADDRESSES: Send written requests for repatriation of the human remains and associated funerary objects in this notice to Dr. Nicole Klarmann, Kansas State Historical Society, 6425 SW 6th Avenue, Topeka, KS 66615-1099, email kshs.nagpra@ks.gov.

SUPPLEMENTARY INFORMATION: This notice is published as part of the National Park Service's administrative responsibilities under NAGPRA. The determinations in this notice are the sole responsibility of the KSHS, and additional information on the determinations in this notice, including the results of consultation, can be found in its inventory or related records. The National Park Service is not responsible for the determinations in this notice.

Abstract of Information Available

Human remains representing, at least, one individual have been identified from Brown County, KS (UBS 1990-14). The 44 associated funerary objects are a copper strip, comb, rings, a bracelet, a chain, beads, fabric, yarn, and limestone. Historic human remains were uncovered during roadwork.

Human remains representing, at least, one individual have been identified from Doniphan County, KS (UBS 1995-33). No associated funerary objects are present. Human remains were found in the collections of the Iowa and Sac and Fox Mission (Highland Mission). Provenience information states that they were found in the vicinity of the Highland Mission.

Human remains representing, at least, one individual have been identified from the Guthrie site (14DP347) in Doniphan County, KS (UBS 1997-20). The 12 associated funerary objects include flakes, a metal flake, stone and chips, and a cinder. The human remains and objects were uncovered while bulldozing a hilltop for housing.

Human remains representing, at least, one individual have been identified from site 14DP304 in Doniphan County, KS (UBS 2000-16). The two associated funerary objects include debitage. The human remains were found on or near a looted stone mound.

Human remains representing, at least, two individuals have been identified from either Kansas or Nebraska (UBS 2019-02, UBS 1993-07). No associated funerary objects are present. These remains are potentially from the Leary site (14BN1336), however, the exact provenience is uncertain.

To our knowledge, no known hazardous substances were used to treat any of the human remains and associated funerary objects.

Cultural Affiliation

Based on the information available and the results of consultation, cultural affiliation is reasonably identified by the geographical location or acquisition history of the human remains and associated funerary objects described in this notice.

Determinations

The KSHS has determined that:

• The human remains described in this notice represent the physical remains of six individuals of Native American ancestry.

• The 58 objects described in this notice are reasonably believed to have been placed intentionally with or near individual human remains at the time of death or later as part of the death rite or ceremony.

• There is a connection between the human remains and associated funerary objects described in this notice and the Iowa Tribe of Kansas and Nebraska.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after October 16, 2025. If competing requests for repatriation are received, the KSHS must determine the most appropriate requestor prior to repatriation. Requests for joint repatriation of the human remains and associated funerary objects are considered a single request and not competing requests. The KSHS is responsible for sending a copy of this notice to the Indian Tribes and Native Hawaiian organizations identified in this notice and any other consulting parties.

Authority: Native American Graves Protection and Repatriation Act, 25 U.S.C. 3003, and the implementing regulations, 43 CFR 10.10.

Dated: September 4, 2025.
Melanie O'Brien,
Manager, National NAGPRA Program.

[FR Doc. 2025-17887 Filed 9-15-25; 8:45 am]

BILLING CODE 4312-52-P